DEPARTMENT OF ENERGY

Federal Energy Regulatory Commission

18 CFR Part 375

[RM16-4-000; Order No. 820]

Delegation of Authority for FERC Form No. 552

AGENCY: Federal Energy Regulatory Commission, Energy.

ACTION: Final rule.

SUMMARY: The Federal Energy Regulatory Commission (Commission) is amending its regulations governing delegations of authority to the Director of the Office of Enforcement. The amendment will provide clarity and consistency regarding the authority delegated to the Office of Enforcement.

DATES: This rule will become effective January 28, 2016.

FOR FURTHER INFORMATION CONTACT: Laura Vallance, Office of Enforcement, 888 First Street NE., Washington, DC 20426, 202-502-8395, Laura.vallance@ferc.gov.

SUPPLEMENTARY INFORMATION:

Order No. 820

Final Rule

(Issued December 22, 2015)

1. The Federal Energy Regulatory Commission (Commission) is amending its regulations governing delegations of authority to the Director of the Office of Enforcement.¹ These amendments will provide clarity and consistency regarding the authority delegated to the Office of Enforcement, by expressly delegating that office authority over FERC Form No. 552.²

¹ 18 CFR 375.311 (2015).

² Transparency Provisions of Section 23 of the Natural Gas Act, Order No. 704, FERC Stats. & Regs. ¶ 31,260 (2007), order on reh'g, Order No. 704-A, FERC Stats. & Regs. ¶ 31,275, order dismissing reh'g and clarification, Order No. 704-B, 125 FERC ¶ 61,302 (2008), order granting clarification, Order No. 704-C, 131 FERC ¶ 61,246 (2010).

I. Background

2. The Commission has broad statutory authority to perform acts and make rules that are necessary or appropriate to carry out its statutory function.³ This includes the delegation of its statutory authority to staff members on routine matters, “which in many cases represent nothing more than a ministerial judgment by the office director concerning procedural matters,” to allow the Commission to focus on more complex and controversial tasks.⁴ The Commission has delegated certain of its authority in a series of orders beginning in 1978.⁵

³ See Regulations Delegating Authority, Order No. 492, FERC Stats. & Regs. ¶ 30,814, at 31,117 & n.2 (1988) (citing 16 U.S.C. 825h (Federal Power Act), 15 U.S.C. 717o (Natural Gas Act), and 15 U.S.C. 3411 (Natural Gas Policy Act of 1978)).

⁴ See J.R. Ferguson and Assoc., 20 FERC ¶ 61,132 at p. 61,291 (1982) (footnote omitted).

⁵ Existing delegations of authority were promulgated in a series of rulemakings initiated in 1978. See Delegations to Various Office Directors of Certain Commission Authority, FERC Stats. & Regs. ¶ 30,016 (1978); Chief Accountant, et al., Delegation of Authority; Final Regulation, Order No. 38, FERC Stats. & Regs. ¶ 30,068 (1979), reh'g denied, 8 FERC ¶61,299 (1979); Delegation of the Commission's Authority to the Directors of Office of Electric Power Regulation, Office of the Chief Accountant, and Office of Pipeline and Producer Regulation, Order No. 147, FERC Stats. & Regs. ¶ 30,259 (1981); Delegation of Authority, Order No. 224, FERC Stats. & Regs. ¶ 30,356 (1982); Regulations Delegating Authority, Order No. 492, FERC Stats. & Regs. ¶ 30,814 (1988); Streamlining Commission Procedures for Review of Staff Action, Order No. 530, FERC Stats. & Regs. ¶ 30,906 (1990), reh'g denied, Order No. 530-A, FERC Stats. & Regs. ¶ 30,914 (1991); Delegation of Authority to the Secretary, the Director of the Office of Electric Power Regulation, and the General Counsel, Order No. 585, FERC Stats. & Regs. ¶ 31,030 (1995); Delegation of Authority, Order No. 613, FERC Stats. & Regs. ¶ 31,087 (1999); Delegation of Authority, Order No. 632, FERC Stats. & Regs. ¶ 31,143 (2003); Chief Accountant Delegations, Order No. 721, FERC Stats. & Regs. ¶ 31, 287 (2009).

3. In 2007, the Commission issued Order No. 704, which created FERC Form No. 552. FERC Form No. 552, Annual Report of Natural Gas Transactions, collects transactional information from natural gas market participants. FERC Form No. 552 is codified in section 260.401 of the Commission's regulations.⁶

⁶ 18 CFR 260.401 (2015).

II. Discussion

4. Part 375, Subpart C, of the Commission's rules and regulations sets our delegations of authority to the various office directors, such as the Director of the Office of Enforcement. Section 375.311 specifically includes delegations of authority to the Director of the Office of Enforcement. Section 375.311(r) includes the authority to deny or grant, in whole or in part, motions of extensions of time to file, or requests for the waiver of the requirements of the Form Nos, 1, 1-F, 2, 2-A and 6, the Form 60, 61, 730 and Electric Quarterly Reports.⁷ Section 375.311 (s) includes the authority to provide notification if any of the above filings fails to comply with the applicable statutory requirements, and with all applicable Commission rules, regulations, and orders for which a waiver has not been granted, or, when appropriate, notify a party that a submission is acceptable.⁸

⁷ 18 CFR 375.311(r).

⁸ 18 CFR 375.311(s).

5. Order No. 704 created the FERC Form No. 552 filing requirements. However, there is no delegated authority contained in the regulations similar to that found for the other forms administered by the Office of Enforcement. In order to create consistency among the delegations for forms administered by the Office of Enforcement, this rule amends 18 CFR 375.311(r) and (s) to add FERC Form No. 552 to the list of forms included in the delegations to the Director of the Office of Enforcement.

III. Information Collection Statement

6. Review by the Office of Management and Budget, pursuant to section 3507(d) of the Paperwork Reduction Act of 1995, is not required since this final rule does not contain new or modified information collection or recordkeeping requirements.

IV. Environmental Analysis

7. The Commission is required to prepare an Environmental Assessment or an Environmental Impact Statement for any action that may have a significant adverse effect on the human environment. Part 380 of the Commission's regulations exempts certain actions from the requirement that an Environmental Analysis or Environmental Impact Statement be prepared. Included is an exemption for procedural, ministerial, or internal administrative actions. As this Final Rule falls within that exemption, issuance of the Rule does not represent a major federal action having a significant adverse effect on the human environment under the Commission's regulations implementing the National Environmental Policy Act, and, thus, does not require an Environmental Analysis or Environmental Impact Statement.

V. Regulatory Flexibility Act

8. The Regulatory Flexibility Act of 1980 (RFA) generally requires a description and analysis of Final Rules that will have significant economic impact on a substantial number of small entities. Rules that are exempt from the notice and comment requirements of section 553(b) of the Administrative Procedure Act are exempt from the RFA requirements. This Final Rule concerns matters of internal agency procedure and, therefore, an analysis under the RFA is not required.

VI. Document Availability

9. In addition to publishing the full text of this document in the Federal Register, the Commission provides all interested persons an opportunity to view and/or print the contents of this document via the Internet through FERC's Home Page (http://www.ferc.gov) and in FERC's Public Reference Room during normal business hours (8:30 a.m. to 5:00 p.m. Eastern time) at 888 First Street NE., Room 2A, Washington DC 20426.

10. From FERC's Home Page on the Internet, this information is available on eLibrary. The full text of this document is available on eLibrary in PDF and Microsoft Word format for viewing, printing, and/or downloading. To access this document in eLibrary, type the docket number excluding the last three digits of this document in the docket number field.

11. User assistance is available for eLibrary and the FERC's Web site during normal business hours from FERC Online Support at 202-502-6652 (toll free at 1-866-208-3676) or email at ferconlinesupport@ferc.gov, or the Public Reference Room at 202-502-8371, TTY 202-502-8659. Email the Public Reference Room at public.referenceroom@ferc.gov.

VII. Effective Date and Congressional Notification

12. These regulations are effective January 28, 2016. This rule is exempt from the Congressional Review Act ⁹ under section 804 (3) because it relates to “agency management or personnel; or (C) any rule of agency organization, procedure, or practice that does not substantially affect the rights or obligations of non-agency parties.”

⁹ 5 U.S.C. 801-808.

List of Subjects in 18 CFR Part 375

Authority delegations (Government agencies), Seals and insignia, Sunshine Act.

By the Commission.
Issued: December 22, 2015.
Nathaniel J. Davis, Sr.,
Deputy Secretary.

In consideration of the foregoing, the Commission amends Part 375, Chapter I, Title 18, Code of Federal Regulations, as follows.

PART 375—THE COMMISSION

1. The authority citation for Part 375 continues to read as follows:

Authority: 5 U.S.C. 551-557; 15 U.S.C. 717-717w, 3301-3432; 16 U.S.C. 791-825r, 2601-2645; 42 U.S.C. 7101-7352.

2. In § 375.311, paragraphs (r) and (s) are revised to read as follows:

§ 375.311 Delegations to the Director of the Office of Enforcement.

* * * * *

(r) Deny or grant, in whole or in part, motions for extension of time to file, or requests for waiver of the requirements of the following forms, data collections, and reports: Annual Reports (Form Nos. 1, 1-F, 2, 2-A, and 6); Quarterly Reports (Form Nos. 3-Q and 6-Q); Annual Report of Centralized Service Companies (Form No. 60); Narrative Description of Service Company Functions (FERC-61); Annual Report of Natural Gas Transactions (Form No. 552); Report of Transmission Investment Activity (FERC-730); and Electric Quarterly Reports, as well as, where required, the electronic filing of such information (§ 385.2011 of this chapter, Procedures for filing on electronic media, paragraphs (a)(6), (c), and (e)).

(s) Provide notification if a submitted Annual Report (Form Nos. 1, 1-F, 2, 2-A, and 6), Quarterly Report (Form Nos. 3-Q and 6-Q), Annual Report of Centralized Service Companies (Form No. 60), Narrative Description of Service Company Functions (FERC-61), Annual Report of Natural Gas Transactions (Form No. 552), Report of Transmission Investment Activity (FERC-730), or Electric Quarterly Report fails to comply with applicable statutory requirements, and with all applicable Commission rules, regulations, and orders for which a waiver has not been granted, or, when appropriate, notify a party that a submission is acceptable.

* * * * *

[FR Doc. 2015-32690 Filed 12-28-15; 8:45 am]

BILLING CODE 6717-01-P